DEPARTMENT OF COMMERCE

Foreign-Trade Zones Board

[A(32c)-01-2009]

Foreign-Trade Zone 7—Mayaguez, Puerto Rico; Scope Clarification Request—Foreign-Trade Zone 7I; Abbott Pharmaceuticals P.R. Ltd.—Barceloneta, Puerto Rico (Pharmaceutical Products)

A request for clarification of scope has been submitted to the Foreign-Trade Zones Board (the Board) by Abbott Pharmaceuticals P.R. Ltd. (Abbott), operator of Foreign-Trade Subzone 7I at Abbott's pharmaceutical manufacturing plant in Barceloneta, Puerto Rico.

A grant of authority for Abbott's subzone was issued on December 23, 2005, with manufacturing authority for certain antibiotics and Depakote, a treatment for epilepsy, migraines, and bipolar disease (duty free), utilizing the foreign materials Beta Carb, hexamethyldisilozine, and hypromellose phthalate (duty rates: 3.7%—5.2%). Abbott has informed the Board that it now plans to produce other related pharmaceutical products that were listed in the application as finished pharmaceutical products, intermediates and chemical inputs for possible future production (Board Order 1432, 12/23/2005, 71 FR 1733, 1/11/2006).

Specifically, the company plans to make a HIV-AIDS protease inhibitor (HTSUS 3004.90—duty free) from the foreign materials sodium stearyl fumarate and copovodine (HTSUS 2917.19—duty rate 6.5% and HTSUS 3905.91—5.3%, respectively). Abbott also plans to make choline fenofibrate, a pharmaceutical intermediate (HTSUS 3003.90—duty free), from the foreign input choline hydroxide (HTSUS 2923.10—duty rate 3.7%).

The FTZ staff invites the comments of interested parties for consideration in its review. Submissions shall be addressed to the Board's Executive Secretary at the address listed below. The closing period for their receipt is May 15, 2009.

A copy of the request will be available for public inspection at the Office of the Executive Secretary, Foreign-Trade Zones Board, Room 2111, U.S. Department of Commerce, 1401 Constitution Avenue, NW., Washington, DC 20230-0002, and in the “Reading Room” section of the Board's Web site, which is accessible via http://www.trade.gov/ftz. For further information, contact Diane Finver at Diane_Finver@ita.doc.gov, or (202) 482-1367.

Dated: April 9, 2009.
Andrew McGilvray,
Executive Secretary.

[FR Doc. E9-8635 Filed 4-14-09; 8:45 am]

BILLING CODE 3510-DS-P